DEPARTMENT OF COMMERCE

International Trade Administration

Format for Petition Requesting Relief Under U.S. Countervailing Duty Law

ACTION: Proposed collection; comment request.

SUMMARY: The Department of Commerce, as part of its continuing effort to reduce paperwork and respondent burdens, invites the general public and other Federal agencies to take this opportunity to comment on the continuing information collections, as required by the Paperwork Reduction Act of 1995, Pub. L. 104-13 (44 U.S.C. 3506(c)(2)(A)).

DATES: Written comments must be submitted on or before December 1, 2003.

ADDRESSES: Direct all written comments to Diana Hynek, Departmental Paperwork Clearance Officer, Department of Commerce, Room 6625, 14th and Constitution Avenue, NW., Washington, DC 20230 or via the Internet at dHynek@doc.gov.

FOR FURTHER INFORMATION CONTACT: Request for additional information or copies of the information collection instrument and instructions should be directed to: Nicole Bankhead, Import Administration, Office of Policy, Room 3713, 14th & Constitution Avenue, NW., Washington, DC 20230; Phone number: (202) 482-8221, and fax number: (202) 501-7952.

SUPPLEMENTARY INFORMATION:

I. Abstract

The International Trade Administration, Import Administration, AD/CVD Enforcement, implements the U.S. antidumping and countervailing duty law. Import Administration investigates allegations of unfair trade practices by foreign governments and producers and, in conjunction with the U.S. International Trade Commission, can impose duties on the product in question to offset the unfair practices. Form ITA-366P—Format for Petition Requesting Relief Under the U.S. Countervailing Duty Law—is designed for U.S. companies or industries that are unfamiliar with the Countervailing law and the petition process. The Form is designed for potential petitioners that believe a foreign competitor is being subsidized unfairly. Since a variety of detailed information is required under the law before initiation of a countervailing duty investigation, the Form is designed to extract such information in the least burdensome manner possible.

II. Method of Data Collection

Form ITA-366P is sent by request to potential U.S. petitioners.

III. Data

OMB Number: 0625-0148.

Form Number: ITA-366P.

Type of Review: Regular Submission.

Affected Public: U.S. companies or industries that suspect the presence of unfair competition from subsidized foreign enterprises.

Estimated Number of Respondents: 5.

Estimated Time Per Response: 40 hours.

Estimated Total Annual Burden Hours: 200 hours.

Estimated Total Annual Costs: Assuming the number of petitioners remains the same, the estimated annual cost for this collection is $27,500 ($14,000 for respondents and $13,500 for federal government).

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: September 26, 2003.
Madeleine Clayton,
Management Analyst, Office of the Chief Information Officer.

[FR Doc. 03-24961 Filed 10-1-03; 8:45 am]

BILLING CODE 3510-DS-P